DEPARTMENT OF HOMELAND SECURITY

Coast Guard

33 CFR Part 117

[Docket No. USCG-2014-0762]

Drawbridge Operation Regulations; Townsend Gut, Boothbay Harbor and Southport, ME

AGENCY: Coast Guard, DHS.

ACTION: Notice of deviation from drawbridge regulation.

SUMMARY: The Coast Guard has issued a temporary deviation from the operating schedule that governs the operation of the Southport SR27 Bridge across Townsend Gut, mile 0.7, between Boothbay Harbor and Southport, Maine. The bridge owner, Maine Department of Transportation will be performing structural repairs at the bridge. This deviation allows the bridge to operate on a temporary schedule for eleven weeks to facilitate scheduled bridge maintenance.

DATES: This deviation is effective from September 8, 2014 through November 22, 2014.

ADDRESSES: The docket for this deviation, [USCG-2014-0762] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC, 20590, between 9 a.m. and 5 p.m., Monday through Friday, except Federal holidays.

FOR FURTHER INFORMATION CONTACT: If you have questions on this rule, call or email Mr. John McDonald, Project Officer, First Coast Guard District, telephone (617) 223-8364, john.w.mcdonald@uscg.mil. If you have questions on viewing the docket, call Cheryl Collins, Program Manager, Docket Operations, telephone 202-366-9826.

SUPPLEMENTARY INFORMATION: The Southport SR27 Bridge, across Townsend Gut, mile 0.7, between Boothbay Harbor and Southport, Maine, has a vertical clearance in the closed position of 10 feet above mean high water and 19 feet above mean low water. The bridge operating regulations are listed at 33 CFR 117.537.

The waterway is transited by recreational and commercial fishing boats.

The bridge owner, Maine Department of Transportation, requested a temporary deviation from the normal operating schedule to facilitate deck repairs at the bridge.

Under this temporary deviation the Southport SR27 Bridge shall operate as follows: From September 8, 2014 through November 22, 2014, the draw shall open on signal at 12 a.m., 3 a.m., 6 a.m., 9 a.m., 12 p.m., 3 p.m., 6 p.m., and 9 p.m. The draw shall remain in the closed position from 6 p.m. through 6 a.m. on twelve dates to be announced in the Local Notice to Mariners (LNTM) and via a broadcast notice to mariners (BNTM), at least two weeks prior to each closure date. There is an alternate route for navigation around Southport. Vessels that can pass under the bridge in the closed position may do so at all times.

In accordance with 33 CFR 117.35(e), the drawbridge must return to its regular operating schedule immediately at the end of the effective period of this temporary deviation. This deviation from the operating regulations is authorized under 33 CFR 117.35.

Dated: August 15, 2014.
C.J. Bisignano,
Supervisory Bridge Management Specialist, First Coast Guard District.

[FR Doc. 2014-20541 Filed 8-28-14; 8:45 am]

BILLING CODE 9110-04-P